DEPARTMENT OF JUSTICE

Notice of Lodging of Consent Decree Under the Clean Air Act

Notice is hereby given that on January 19, 2001 a proposed Consent Decree (“Decree”) in United States and State of Colorado v. William Field Services Co. et al., Civil Action No. 01-S-0113 was lodged with the United States District Court for the District of Colorado. The United States filed this action pursuant to section 113(b) of the Clean Air Act (the “Act”), 42 U.S.C. 7413(b), for noncompliance with Section 165 of the Act, 42 U.S.C. 7475 pertaining to increased emissions of volatile organic compounds from major modifications at the settling defendant's so-called Ignacio Plant, a natural gas processing facility situated within the exterior boundaries of the Southern Ute Indian Reservation near Durango, Colorado.

Under the terms of the Decree Williams Field Services Company and Williams Gas Processing Company, Inc., will pay the United States a civil penalty in the amount of $850,000, and meet emission standards and other terms and conditions set forth in the Decree regarding emissions of volatile organic compounds until such time that a PSD permit has been issued to the companies by EPA or other duly authorized State or Tribal agency or commission to which EPA has delegated PSD permitting authority.

The Department of Justice will receive for a period of thirty (30) days from the date of this publication comments relating to the Decree. Comments should be addressed to the Assistant Attorney General, Environment and Natural Resources Division, P.O. Box 7611, U.S. Department of Justice, Washington, DC 20044-7611, and should refer to United States v. Williams Field Services Co., et al., D.J. Ref. 90-5-2-1-06938.

The Decree may be examined at the offices of the U.S. EPA Region VIII, 999 18th Street, Suite 500 South Tower, Denver, Colorado. A copy of the Decree may also be obtained by mail from the Consent Decree Library, P.O. Box 7611, U.S. Department of Justice, Washington, DC 20044-7611 either with or without the multiple signature pages and attachments. In requesting a copy of the Decree, please enclose a check payable to the Consent Decree Library for $6.75 for a complete copy of the decree (25 cents per page reproduction cost).

Walker B. Smith,
Deputy Chief, Environmental Enforcement Section, Environment and Natural Resources Division.

[FR Doc. 01-3274 Filed 2-7-01; 8:45 am]

BILLING CODE 4410-15-M